DEPARTMENT OF ENERGY

Federal Energy Regulatory Commission

[Docket No. CP01-422-004]

Kern River Gas Transmission Company; Notice of Compliance Filing

March 6, 2003.

Take notice that on February 28, 2003, Kern River Gas Transmission Company (Kern River) tendered for filing as part of its FERC Gas Tariff, Second Revised Volume No. 1, the following tariff sheets, to be effective May 1, 2003:

Sixth Revised Sheet No. 5-A.

Third Revised Sheet No. 109.

Third Revised Sheet No. 110.

Second Revised Sheet No. 110-A.

Original Sheet No. 110-A.1.

Second Revised Sheet No. 110-B.

First Revised Sheet No. 110-C.

Kern River states that the purpose of this filing is to comply with the Preliminary Determination on Non-Environmental Issues dated February 27, 2002, in Docket No. CP01-422.

Kern River states that it has served a copy of this filing upon its customers, interested state regulatory commissions, and intervenors on the official service list for Docket No. CP01-422.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 12, 2003.

Magalie R. Salas,
Secretary.

[FR Doc. 03-6019 Filed 3-12-03; 8:45 am]

BILLING CODE 6717-01-P